ENVIRONMENTAL PROTECTION AGENCY

[FRL-7530-1]

Notice of Proposed Prospective Purchaser Agreement Pursuant to the Comprehensive Environmental Response, Compensation and Liability Act of 1980, as Amended by the Superfund Amendments and Reauthorization Act, Sand Creek Superfund Site

AGENCY: Environmental Protection Agency (EPA).

ACTION: Notice; request for public comment.

Notification is hereby given that a Proposed Prospective Purchaser Agreement (PPA) associated with the Sand Creek Superfund Site located in Commerce City, Colorado was executed by the United States Department of Justice on June 3, 2003. This Agreement is subject to final approval after the comment period. The Prospective Purchaser Agreement would resolve certain potential EPA claims under the Comprehensive Environmental Response, Compensation and Liability Act of 1980, as amended by the Superfund Amendments and Reauthorization Act of 1986 (CERCLA), against NDSC, LLC., the prospective purchaser (the purchaser). The settlement would require the purchaser to provide EPA and the State of Colorado an irrevocable right of access, cash payments to EPA (90%) and the State of Colorado (10%) in the total amount of $290,000.00, and the grant of an environmental covenant, under Colorado law, that will place land use controls on the purchased properties consistent with the response actions conducted by EPA and the State of Colorado on these properties. The purchasers will use the Site property in conjunction with their landscaping business operations.

For thirty (30) days following the date of publication of this document, the Agency will receive written comments relating to the proposed settlement. The Agency's response to any comments received will be available for public inspection at the Superfund Records Center at the U.S. Environmental Protection Agency, Region VIII, 999 18th Street, Denver, Colorado, 80202.

Availability: The proposed agreement is available for public inspection at the U.S. Environmental Protection Agency, Region VIII, 999 18th Street, Denver, Colorado, 80202. A copy of the proposed Agreement may be obtained from Maureen O'Reilly, Enforcement Specialist, U.S. Environmental Protection Agency, Region VIII, 999 18th Street, Suite 300, ENF-T, Denver, Colorado, 80202. Comments should be sent to Maureen O'Reilly at the address above and should reference the “Sand Creek Superfund Site Prospective Purchaser Agreement, EPA Docket No. CERCLA-08-2003-0008”.

FOR FURTHER INFORMATION CONTACT: Richard Sisk, Enforcement Attorney, U.S. Environmental Protection Agency, Region VIII, 999 18th Street, Suite 300, ENF-L, Denver, Colorado, 80202, (303) 312-6638.

Dated: June 27, 2003.
It is so agreed:
Robert E. Roberts,
Regional Administrator, U.S. Environmental Protection Agency Region 8.

[FR Doc. 03-18159 Filed 7-17-03; 8:45 am]

BILLING CODE 6560-50-M